DEPARTMENT OF COMMERCE

Technology Administration

Technology Administration Performance Review Board Membership

The Technology Administration Performance Review Board (TA PRB) reviews performance appraisals, agreements, and recommended actions pertaining to employees in the Senior Executive Service and reviews performance-related pay increases for ST-3104 employees. The Board makes recommendations to the appropriate appointing authority concerning such matters so as to ensure the fair and equitable treatment of these individuals.

This notice lists the membership of the TA PRB and supersedes the list published in Federal Register document 04-2830, Vol. 69, No. 27, page 59575, dated February 10, 2004.

Daniel W. Caprio, Jr. (NC); Deputy Assistant Secretary for Technology Policy, Office of Technology Policy, Technology Administration, Washington, DC, Appointment Expires: 12/31/06.

Belinda L. Collins (C), Deputy Director for Technology Services, National Institute of Standards & Technology, Gaithersburg, MD 20899, Appointment Expires: 12/31/05.

Stephen Freiman (C), Deputy Director, Materials Science & Engineering Laboratory, National Institute of Standards & Technology, Gaithersburg, MD 20899, Appointment Expires: 12/31/04.

Cita Furlani (C), Chief Information Officer, National Institute of Standards & Technology, Gaithersburg, MD 20899, Appointment Expires: 12/31/05.

Daniel Hurley (C), Director of Communication and Information Infrastructure Assurance Program, National Telecommunications and Information Administration; Washington, DC 20230, Appointment Expires: 12/31/05.

Deirdre Jones (C), Director of Systems Engineering Center, Office of Science and Technology, National Weather Service, National Oceanic and Atmospheric Administration, Silver Spring, MD 20910, Appointment Expires: 12/31/05.

William F. Koch (C), Deputy Director, Chemical Science & Technology Laboratory, National Institute of Standards & Technology, Gaithersburg, MD 20899, Appointment Expires: 12/31/04.

Michelle O'Neill (C), Deputy Under Secretary of Commerce for Technology, Technology Administration, Department of Commerce, Appointment Expires: 12/31/06.

Dated: August 13, 2004.
Benjamin H. Wu,
Senior Advisor for Technology Administration, Department of Commerce.

[FR Doc. 04-19051 Filed 8-19-04; 8:45 am]

BILLING CODE 3510-18-M